DEPARTMENT OF COMMERCE

National Oceanic and Atmospheric Administration

[RTID 0648-XC755]

North Pacific Fishery Management Council; Public Meeting

AGENCY: National Marine Fisheries Service (NMFS), National Oceanic and Atmospheric Administration (NOAA), Commerce.

ACTION: Notice of hybrid meeting.

SUMMARY: The Center of Independent Experts (CIE) review of the Ecosystem Status Reports will be held February 28, 2023, through March 2, 2023.

DATES: The meeting will be held on Tuesday, February 28, 2023, through Thursday, March 2, 2023, from 9 a.m. to 5 p.m., Pacific Time.

ADDRESSES:

Council address: The meeting will be a hybrid meeting. The in-person component of the meeting will be held at the Alaska Fisheries Science Center, in Room 2079, 7600 Sand Point Way, NE, Building 4, Seattle, WA 98115.

If you plan to attend in-person you need to notify Stephani Zador at stephani.zador@noaa.gov at least two days prior to the meeting (or two weeks prior if you are a foreign national). You will also need a valid U.S. Identification Card. If you are attending virtually, join the meeting online through the link at https://apps-afsc.fisheries.noaa.gov/Plan_Team/2023_ESR_CIE/.

Council address: North Pacific Fishery Management Council, 1007 W 3rd Ave., Anchorage, AK 99501-2252; telephone: (907) 271-2809.

FOR FURTHER INFORMATION CONTACT: Stephani Zador, Alaska Fishery Science Center staff; phone: (206) 526-4693; email: stephani.zador@noaa.gov.

SUPPLEMENTARY INFORMATION:

Agenda

Tuesday, February 28, 2023, Through Thursday, March 2, 2023

The CIE will conduct a review of the goals of the Ecosystem Status Reports efforts and how best to achieve them. The agenda is subject to change, and the latest version will be posted at https://appsafsc.fisheries.noaa.gov/Plan_Team/2023_ESR_CIE/ prior to the meeting, along with meeting materials.

Public Comment

An opportunity for public comment will be provided during the meeting. For more information, please visit the link at https://appsafsc.fisheries.noaa.gov/Plan_Team/2023_ESR_CIE/.

Authority: 16 U.S.C. 1801 et seq.

Dated: February 6, 2023.
Rey Israel Marquez,
Acting Deputy Director, Office of Sustainable Fisheries, National Marine Fisheries Service.

[FR Doc. 2023-02785 Filed 2-8-23; 8:45 am]

BILLING CODE 3510-22-P